DEPARTMENT OF TRANSPORTATION

Federal Aviation Administration

Notice of Opportunity for Public Comment on Grant Acquired Property Release at Orangeburg Municipal Airport, Orangeburg, SC

AGENCY: Federal Aviation Administration (FAA), DOT.

ACTION: Notice.

SUMMARY: Under the provisions of Title 49, U.S.C. Section 47153(c), notice is being given that the FAA is considering a request from the City of Orangeburg to waive the requirement that approximately .34-acres of airport property, located at the Orangeburg Municipal Airport, be used for aeronautical purposes.

DATES: Comments must be received on or before July 31, 2006.

ADDRESSES: Comments on this notice may be mailed or delivered in triplicate to the FAA at the following address: Atlanta Airports District Office, Attn: Paul Lo, Program Manager, 1701 Columbia Ave., Suite 2-260, Atlanta, GA 30337-2747.

In addition, one copy of any comments submitted to the FAA must be mailed or delivered to Durwood E. Bowden, Public Works Director of the City of Orangeburg at the following address: City of Orangeburg, Post Office Drawer 387, Orangeburg, SC 29116.

FOR FURTHER INFORMATION CONTACT: Paul Lo, Program Manager, Atlanta Airports District Office, 1701 Columbia Ave., Suite 2-260, Atlanta, GA 30337-2747, (404) 305-7145. The application may be reviewed in person at this same location.

SUPPLEMENTARY INFORMATION: the FAA is reviewing a request by the City of Orangeburg to release approximately .34 acres of airport property at the Orangeburg Municipal Airport. The property consists of one parcel roughly located on the East side of the airport directly adjacent to the West side of the Orangeburg County Industrial Park. This property is currently shown on the approved Airport Layout Plan as aeronautical use land; however the property is currently not being used for aeronautical purposes and the proposed use of this property is compatible with airport operations. The Cit will ultimately sell the property for future industrial use with proceeds of the sale providing funding for future airport development.

Any person may inspect the request in person at the FAA office listed above under FOR FURTHER INFORMATION CONTACT. In addition, any person may, upon request, inspect the request, notice and other documents germane to the request in person at the Orangeburg Municipal Airport.

Issued in Atlanta, Georgia, on June 22, 2006.
Scott L. Seritt,
Manager, Atlanta Airports District Office, Southern Region.

[FR Doc. 06-5924 Filed 6-29-06; 8:45 am]

BILLING CODE 4910-13-M